DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from June 8, to June 12, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: August 4, 2009.
J. Paul Loether,
Chief, National Register of Historic Places/National Historic Landmarks Program.

Key: State, County, Property Name, Address/Boundary, City, Vicinity, Reference Number, Action, Date, Multiple Name.

ARKANSAS

Randolph County,

Pocahontas Commercial Historic District, roughly bounded by Rice, Thomasville, Jordan and McDonald Sts., Pocahontas, 09000315, Listed, 6/12/09.

CALIFORNIA

Los Angeles County,

27th Street Historic District, Along 27th St., Los Angeles, 09000399, Listed, 6/11/09 (African Americans in Los Angeles).

Los Angeles County,

52nd Place Historic District, Along E. 52nd Pl., Los Angeles, 09000398, Listed, 6/11/09 (African Americans in Los Angeles).

IOWA

Floyd County,

Tyden Farm No. 6 Farmstead Historic District, 1145 300th St., Dougherty vicinity, 09000401, Listed, 6/11/09.

Polk County,

Earle & LeBosquet Block, 407-409 Court Ave., Des Moines, 09000402, Listed, 6/11/09.

Polk County,

Hotel Randolph, 200-204 4th St., Des Moines, 09000403, Listed, 6/11/09.

Polk County,

Murillo Flats, 605 16th St., Des Moines, 09000404, Listed, 6/09/09.

Polk County,

Youngerman Block, 206-208 4th St., Des Moines, 09000405, Listed, 6/10/09.

MINNESOTA

Ramsey County,

Minnesota Building, 46 E. 4th St., Saint Paul, 09000408, Listed, 6/10/09.

MISSOURI

Chariton County,

Salisbury Square Historic District, 402, 404, 406, 407, 408, 502, 504, 506, 508 S. Broadway, Salisbury, 09000409, Listed, 6/11/09.

St. Louis Independent City,

Medart's, 7036 Clayton Ave., St. Louis, 09000410, Listed, 6/11/09.

St. Louis Independent City,

Railway Exchange Building, 600 Locust St., St. Louis, 09000411, Listed, 6/11/09

OHIO

Franklin County,

Hayden Building, 20 E. Broad St., Columbus, 09000412, Listed, 6/11/09.

Franklin County,

New Hayden Building, 16 E. Broad St., Columbus, 09000413, Listed, 6/11/09.

SOUTH DAKOTA

Hughes County,

Pierre Masonic Lodge, 201 W. Capitol Ave., Pierre, 09000447, Listed, 6/10/09.

VIRGINIA

Fredericksburg Independent City,

Idlewild, 1501 Gateway Blvd., Fredericksburg, 09000415, Listed, 6/08/09.

Louisa County,

Shady Grove School, 2925 Three Chopt Rd., Gum Spring, 09000416, Listed, 6/11/09 (Rosenwald Schools in Virginia MPS).

Orange County,

Chestnut Hill, 236 Caroline St., Orange, 09000417, Listed, 6/11/09.

South Boston Independent City,

South Boston Historic District Boundary Increase, Neighborhoods of Marshall Ave., New Brick Warehouse, Mizpah Church, N. Main St., South Boston, 09000418, Listed, 6/11/09.

[FR Doc. E9-19103 Filed 8-10-09; 8:45 am]

BILLING CODE P